DEPARTMENT OF LABOR

Employment and Training Administration

Agency Information Collection Activities; OMB Approvals; H-2B Temporary Employment Certification Program

ACTION: Notice of OMB approval of information collection requirements.

SUMMARY: This notice announces that the Office of Management and Budget has approved the information collections under the Paperwork Reduction Act. The information collections are in effect.

DATES: On April 29, 2015, the Office of Management and Budget (OMB) approved the Department of Labor's emergency information collection requests under the PRA for requirements in 20 CFR part 655, subpart A, as published in the Federal Register on April 29, 2015 at 80 FR 24042 and 80 FR 24146. The information collections in the interim final rule Temporary Non-Agricultural Employment of H-2B Aliens in the United States were approved under OMB control number 1205-0509, which contains the forms ETA-9142B, H-2B Application for Temporary Employment Certification, Appendix B, Seafood Industry Attestation; and ETA-9155, H-2B Registration. The current expiration date for OMB authorization for this information collection is October 31, 2015.

The new information collection in the final rule Wage Methodology for the Temporary Non-Agricultural Employment H-2B Program was approved under OMB control number 1205-0516, which contains Form ETA-9165, Employer-Provided Survey Attestations to Accompany H-2B Prevailing Wage Determination Request Based on a Non-OES Survey. The current expiration date for OMB authorization for this information collection is October 31, 2015.

ADDRESSES: Written comments regarding the burden-hour estimates or other aspects of the information collection requirements contained in 20 CFR part 655, subpart A may be submitted to: William W. Thompson, II, Acting Administrator, Office of Foreign Labor Certification, Room C-4312, 200 Constitution Avenue NW., Washington DC 20210.

FOR FURTHER INFORMATION CONTACT: Brian Pasternak, National Director of Temporary Programs, Office of Foreign Labor Certification, Room C-4312, Employment & Training Administration, U.S. Department of Labor, 200 Constitution Avenue NW., Washington, DC 20210. Telephone number: 202-693-3010 (this is not a toll-free number). Individuals with hearing or speech impairments may access the telephone number above via TTY by calling the toll-free Federal Information Relay Service at 1-877-889-5627 (TTY/TDD).

SUPPLEMENTARY INFORMATION: OMB has approved the information collection requirements under the PRA contained in two recently revised final regulations in the H-2B Temporary Non-Agricultural Employment Programs published by the Department of Labor in the Federal Register on April 29, 2015 at 80 FR 24042 and 80 FR 24146. The preamble to the new regulations stated an effective date of April 29, 2015; however, the regulations were published without specific information about the exact expiration dates or the new control number for the ETA-9165. An agency may not conduct an information collection unless it has a currently valid OMB approval. 44 U.S.C. 3506(c)(1)(B)(iii)(V). OMB issued a formal Notice of Approval on April 29, 2015 after the rules had already been placed on the Federal Register's Electronic Public Inspection Desk and could not be edited to include the OMB control number and exact expiration dates. This is a notice to the public to inform it of the approval of the forms and information collections on the effective date of the rules and to provide the OMB control numbers and expiration dates. The expiration date for OMB authorization for both OMB control numbers 1205-0509 and 1205-0516 and the information collections found therein is October 31, 2015. Because the information collections were approved under PRA emergency procedures codified in 5 CFR 1320.13, the Department will be publishing Notices in the Federal Register that invite public comment on the collection requirements as required under 5 CFR 1320.8 in anticipation of extending the information collection requests.

The approved information collections are summarized as follows:

Title of Collection: H-2B Foreign Labor Certification Program.

Forms: H-2B Application for Temporary Employment Certification (ETA-9142B), Appendix B, Seafood Attestation; and H-2B Registration (ETA-9155).

OMB Control Number: 1205-0509.

Affected Public: Individuals or Households, Private Sector—businesses or other for-profits, Government, State, Local and Tribal Governments.

Estimated Number of Respondents: 7,355.

Frequency: On occasion.

Total Estimated Annual Responses: 184,442.

Estimated Average Time per Response: Various (ten minutes to two hours).

Estimated Total Annual Burden Hours: 47,992 hours.

Total Estimated Annual Other Cost Burden: $351,800.

Title of Collection: Employer-Provided Survey Attestations to Accompany H-2B Prevailing Wage Determination Request Based on a Non-OES Survey.

Form: Employer-Provided Survey Attestations to Accompany H-2B Prevailing Wage Determination Request Based on a Non-OES Survey (ETA-9165).

OMB Control Number: 1205-0516.

Affected Public: Individuals or Households, Private Sector—businesses or other for-profits, Government, State, Local, and Tribal Governments.

Estimated Number of Respondents: 556.

Frequency: On occasion.

Total Estimated Annual Responses: 256.

Estimated Average Time per Response: 1.25 hours.

Estimated Total Annual Burden Hours: 348 hours.

Total Estimated Annual Other Cost Burden: $211,884.

Portia Wu,
Assistant Secretary, Employment and Training Administration.

[FR Doc. 2015-13066 Filed 5-29-15; 8:45 am]

BILLING CODE 4510-FP-P